DEPARTMENT OF AGRICULTURE

Submission for OMB Review; Comment Request

March 1, 2022.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by April 4, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Stocks Reports.

OMB Control Number: 0535-0007.

Summary of Collection: The National Agricultural Statistics Service's primary function is to prepare and issue current, official State and national estimates of crop and livestock production, stocks, disposition, and prices. As part of this function, estimates are made for stocks of off-farm grains and oilseeds, hops, peanuts, potatoes, and rice. Statistics for the set of crops included in this docket are collected because of the large volume produced, high value of production, and significant public interest. General authority for data collection is granted under U.S. Code Title 7, Section 2204. This statute specifies that “The Secretary of Agriculture shall procure and preserve all information concerning agriculture which he can obtain . . . by the collection of statistics . . . and shall distribute them among agriculturists.”

Need and Use of the Information: NASS collects information to administer farm program legislation and make decisions relative to the export-import programs. Estimates of stocks provide essential statistics on supplies and contribute to orderly marketing. Farmers and agribusiness firms use these estimates in their production and marketing decisions. Collecting this information less frequently would eliminate data needed by the government, and industry and farmers to keep abreast of changes at the State and national level.

Description of Respondents: Business or other for profit; Farms.

Number of Respondents: 6,330.

Frequency of Responses: Reporting: Monthly; Quarterly; Annually.

Total Burden Hours: 5,062.

National Agricultural Statistics Service

Title: Generic Clearance of Survey Improvement Projects.

OMB Control Number: 0535-0248.

Summary of Collection: The primary function of the National Agricultural Statistics Service is to prepare and issue State and National estimates which include crop and livestock production, economic and environmental inputs, whole farm characteristics and operator demographics (covered by the Census of Agriculture) under the general authority of Title 7 U.S.C. Sec. 2204.

NASS is requesting the renewal of a generic clearance in order to respond quickly to emerging issues and data collection needs. The agricultural industry and economy continue to change, and NASS needs to continuously evaluate its surveys in light of these changes. Respondents continue to change (e.g., response rates decrease over time), technology continues to change (e.g., the Web quickly became a data collection option), and data needs continue to change. In addition, our understanding of how to improve surveys continues to evolve (e.g., the application of cognitive psychology to survey methodology has increased our understanding of surveys). The generic clearance structure allows NASS to meet these information needs using a means that minimizes respondent and administrative burden. Thus, NASS requests an ongoing OMB clearance structure in place to continue to improve the overall quality of its statistical surveys, to lessen the burden it places on respondents, and to shorten the time period between changes that affect surveys and NASS' ability to formulate and update its surveys to address those changes. Prior to each test, NASS will submit to OMB a mini-supporting statement that will describe the details of each specific test, along with a sample of the questions or questionnaire that will be tested.

Need and Use of the Information: The information obtained from these efforts will be used to develop new NASS surveys and improve current ones. Specifically, the information will be used to reduce respondent burden while simultaneously improving the quality of the data collected in these surveys. These objectives are met when respondents are presented with plain, coherent and unambiguous questionnaires that ask for data compatible with respondents' memory and/or current reporting and record keeping practices. The purpose of the survey improvement projects will be to ensure that NASS surveys continuously attempt to meet these standards of excellence.

Improved NASS surveys will inform policy decisions on agriculture, as well as contributing to increased agency efficiency and reduced survey costs. In addition, methodological findings have broader implications for survey research and may be presented in technical papers at conferences or published in the proceedings of conferences or in journals.

The results of these tests won't be disseminated or used to inform policy, program, or budget decisions.

Description of Respondents: Private Sector; Businesses or other for-profits; Farms.

Number of Respondents: 25,000.

Frequency of Responses: Reporting: On occasion.

Total Burden Hours: 15,000.

National Agricultural Statistics Service

Title: Quick Response for Cooperator-funded Surveys Generic Clearance.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. In addition to the many statistical activities directly related to its mission, the National Agricultural Statistics Service (NASS) will lend technical expertise to other Federal agencies, State governments, land grant universities, and other organizations which have a Memorandum of Understanding with NASS. These entities will be referred to as cooperators. NASS provides support and assistance in the areas of questionnaire & sample design as well as analysis of survey results. NASS would like to include data collection to its list of services, utilizing the existing Cooperative Agreement with the National State Departments of Agriculture (NASDA). The data collection activities in this generic clearance request would be conducted through cooperative agreements with Federal agencies, State departments of agriculture, land-grant universities, or other organizations with which NASS has a Memorandum of Understanding (MOU). The surveys will be conducted under a full-cost recovery basis. These cooperators have sought out NASS's assistance to provide statistics beneficial to agriculture, but are not covered by NASS's annual Congressional appropriation. General authority for conducting cooperative projects is granted under U.S. Code Title 7, Section 450a which states that USDA officials may, “enter into agreements with and receive funds . . . for the purpose of conducting cooperative research projects. . .” This authority has been delegated to NASS. Response to all surveys collected under this generic clearance is voluntary.

NASS benefits from these cooperative agreements by: (1) Obtaining additional data to update its list of farm operators; (2) encouraging both parties to coordinate Federal survey activities and activities funded under a cooperative agreement to reduce the need for overlapping data collection and/or spread out respondent burden; and (3) facilitating additional promotion of NASS surveys and statistical reports funded by annual Congressional appropriations. Respondents benefit from these cooperative agreements by: (1) Having their reported data protected by Federal Law (U.S. Code Title 18, Section 1905; U.S. Code Title 7, Section 2276; and Title III of Pub. L. 115-435 codified in 44 U.S.C. Ch. 35 and other applicable Federal laws, (CIPSEA)); (2) having data collection activities for Federal and Cooperative surveys coordinated to minimize respondent burden; and (3) having high-quality agricultural data that are important to a state or region be collected and published.

Need and Use of the Information: NASS would like to conduct up to 10 surveys each year in response to requests from cooperators who have data needs that cannot be met through NASS's annual Congressional appropriations.

NASS would like to include surveys that would cover topics such as:

—Farm management practices,

—Food safety,

—Workplace safety,

—Conservation and land use practices,

—Chemical use management practices,

—Crop quality,

—Agri-tourism, local foods, or other specific agricultural promotion programs.

The summarized and published information will be analyzed by the sponsoring cooperators and stakeholders in agriculture. Results will be used to study

—production agriculture as well as

—various programs and policies to determine their impact on agricultural producers and consumers.

Description of Respondents: Private Sector; Businesses or other for-profits; Farms.

Number of Respondents: 225,000.

Frequency of Responses: Reporting: Annually.

Total Burden Hours: 111,512.

Levi S. Harrell,
Departmental Information Collection Clearance Officer.

[FR Doc. 2022-04634 Filed 3-3-22; 8:45 am]

BILLING CODE 3410-20-P